DEPARTMENT OF HEALTH AND HUMAN SERVICES

Health Resources and Services Administration

Agency Information Collection Activities: Submission to OMB for Review and Approval; Information Collection Request Title: Forms for Use With Applications to the Maternal and Child Health Bureau Research and Training Grants, New

AGENCY: Health Resources and Services Administration (HRSA), Department of Health and Human Services.

ACTION: Notice.

SUMMARY: In compliance with of the Paperwork Reduction Act of 1995, HRSA has submitted an Information Collection Request (ICR) to the Office of Management and Budget (OMB) for review and approval. Comments submitted during the first public review of this ICR will be provided to OMB. OMB will accept further comments from the public during the review and approval period.

DATES: Comments on this ICR must be received no later than September 30, 2019.

ADDRESSES: Submit your comments to paperwork@hrsa.gov or mail the HRSA Information Collection Clearance Officer, Room 14N136B, 5600 Fishers Lane, Rockville, Maryland 20857.

FOR FURTHER INFORMATION CONTACT: To request more information on the proposed project or to obtain a copy of the data collection plans and draft instruments, email paperwork@hrsa.gov or call Lisa Wright-Solomon, the HRSA Information Collection Clearance Officer at (301) 443-1984.

SUPPLEMENTARY INFORMATION: When submitting comments or requesting information, please include the ICR title for reference.

Information Collection Request Title: Forms for Use with Applications for the Maternal and Child Health Bureau Research and Training Grants, OMB No. 0906-xxxx—New.

Abstract: HRSA proposes to collect information in conjunction with applications for Maternal and Child Health Bureau (MCHB) grants that describes the qualifications of proposed researchers and the description of expected research participants. This is in compliance with the Social Security Act, Title V, § 501(a)(2) (42 U.S.C. 701(a)(2)), as amended, and the Public Health Service Act, § 399BB(f), (42 U.S.C. 280i-1(f)) as amended by the Autism CARES Act of 2014 (Pub. L. 113-157).

Need and Proposed Use of the Information: In MCHB's research and training grant programs, the applicants will complete the Biographical Sketch form to summarize the qualifications of each key personnel on their proposed research team. The grant reviewers will utilize this information to assess the capabilities of the research team to carry out the planned research project. Applicants will also complete the Inclusion Enrollment form to summarize their expected population of research study participants at the time of submission of their proposal. This information supports decision-making as part of the annual Noncompeting Continuation Award process. Monitoring inclusion enrollment is an important component of ensuring demographic diversity (race, ethnicity, and gender) among research study participants in MCHB's research grant portfolio. This allows MCHB to determine to what extent individuals of different backgrounds are participating in MCHB research and training programs.

A 60-day notice was published in the Federal Register on September 13, 2018, vol. 83, No. 178; pp. 46504-05. There were no public comments.

Likely Respondents: Potential applicants to HRSA's MCHB research and training programs.

Burden Statement: Burden in this context means the time expended by persons to generate, maintain, retain, disclose or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Biographical Sketch for MCHB research and training grant applicants | 200 | 5 | 1,000 | 2.0 | 2,000
PHS Inclusion Enrollment form for MCHB research and training grant applications | 200 | 1 | 200 | 0.5 | 100
Total | 400 |  | 1,200 |  | 2,100

HRSA specifically requests comments on (1) the necessity and utility of the proposed information collection for the proper performance of the agency's functions; (2) the accuracy of the estimated burden; (3) ways to enhance the quality, utility, and clarity of the information to be collected; and (4) the use of automated collection techniques or other forms of information technology to minimize the information collection burden.

Maria G. Button,
Director, Division of the Executive Secretariat.

[FR Doc. 2019-18646 Filed 8-28-19; 8:45 am]

BILLING CODE 4165-15-P